DEPARTMENT OF COMMERCE

International Trade Administration

[A-570-601]

Tapered Roller Bearings and Parts Thereof, Finished and Unfinished, From the People's Republic of China: Amended Final Results of 2000-2001 Administrative Review

AGENCY: Import Administration, International Trade Administration, Department of Commerce.

ACTION: Notice of amended final results of 2000-2001 administrative review.

SUMMARY: On November 7, 2002, the Department of Commerce announced the final results of the administrative review of the antidumping duty order on tapered roller bearings and parts thereof, finished and unfinished, from the People's Republic of China for the period June 1, 2000, through May 31, 2001. These final results were published in the Federal Register on November 14, 2002. See Tapered Roller Bearings and Parts Thereof, Finished and Unfinished, from the People's Republic of China: Final Results of 2000-2001 Administrative Review, Partial Rescission of Review, and Determination to Revoke Order, in Part, 67 FR 68990 (November 14, 2002).

On November 12, 2002, both Zhejiang Machinery Import & Export Corp. and the petitioner, the Timken Company, filed allegations of ministerial errors. Based on our review of the comments received from all parties regarding potential ministerial errors, we have made a change to the margin calculation of respondent Zhejiang Machinery Import & Export Corp. The final weighted-average dumping margin for this company is listed below in the section entitled “Amended Final Results.”

EFFECTIVE DATE: December 4, 2002.

FOR FURTHER INFORMATION CONTACT: Melani Miller, S. Anthony Grasso, or Andrew Smith, Group 1, Office I, Antidumping/Countervailing Duty Enforcement, Import Administration, International Trade Administration, U.S. Department of Commerce, 14th Street and Constitution Avenue NW, Washington, DC 20230; telephone (202) 482-0116, (202) 482-3853, and (202) 482-1276, respectively.

SUPPLEMENTARY INFORMATION:

Background

On November 14, 2002, the Department of Commerce (“the Department”) published the final results in this administrative review. See Tapered Roller Bearings and Parts Thereof, Finished and Unfinished, from the People's Republic of China: Final Results of 2000-2001 Administrative Review, Partial Rescission of Review, and Determination to Revoke Order, in Part, 67 FR 68990 (November 14, 2002) (“Final Results”). The period of review is June 1, 2000, through May 31, 2001.

On November 12, 2002, ministerial error allegations were submitted by respondent Zhejiang Machinery Import & Export Corp. (“ZMC”) and the petitioner.

Scope of Review

Merchandise covered by this review includes tapered roller bearings and parts thereof, finished and unfinished, from the People's Republic of China (“PRC”); flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Amended Final Results

After analyzing the ministerial error comments submitted by the above-noted parties in this review, we have determined, in accordance with section 771(h) of the Tariff Act of 1930, as amended, and 19 CFR 351.224, that we made a ministerial error in the margin calculation for ZMC. Specifically, we inadvertently failed to correct a mis-labeled control number reported by ZMC that we stated in the Final Results we intended to change. For a detailed discussion of the ministerial error allegations and the Department's analysis, see November 27, 2002 memorandum from team to Susan H. Kuhbach entitled Ministerial Error Allegations, which is on file in the Department's Central Records Unit located in the main Commerce building in Room B-099.

Therefore, we are amending the Final Results to reflect the correction of the above-noted ministerial error for ZMC. Based on this revision, we determine that the following dumping margins exist for the period June 1, 2000, through May 31, 2001:

Exporter/manufacturer | Revised weighted-average margin percentage
China National Machinery Import & Export Corporation | 0.71
Wanxiang Group Corporation | 0.00
Tianshui Hailin Import and Export Corporation and Hailin Bearing Factory | 0.00
Luoyang Bearing Corporation (Group) | 0.06 (de minimis)
Zhejiang Machinery Import & Export Corp. | 0.53
PRC-wide rate | 33.18

Assessment Rates

Absent an injunction from the U.S. Court of International Trade, the Department will issue appropriate assessment instructions directly to the Customs Service within 15 days of publication of these amended final results of review.

We are issuing and publishing this determination and notice in accordance with sections 751(a)(1) and 771(i) of the Act.

Dated: November 27, 2002.
Faryar Shirzad,
Assistant Secretary for Import Administration.

[FR Doc. 02-30769 Filed 12-3-02; 8:45 am]

BILLING CODE 3510-DS-S